DEPARTMENT OF HEALTH AND HUMAN SERVICES

Indian Health Service

Organization, Functions, and Delegations of Authority

Part G—Indian Health Service

Part G, of the Statement of Organization, Functions, and Delegations of Authority of the Department of Health and Human Services (HHS), as amended at 52 FR 47053-47067, December 11, 1987, as amended at 60 FR 56606, November 9, 1995, and most recently amended at 61 FR 67048, December 19, 1996, is hereby amended to reflect a reorganization of the Indian Health Service (IHS) Headquarters (HQ). The goal of the reorganization is to demonstrate increased leadership and advocacy, while improving the Agency's responsibilities for oversight and accountability. We have considered the President's Management Agenda, the Secretary's Workforce Restructuring Plan and recommendations from the Indian Health Design Team and the IHS Restructuring Initiatives Workgroup. Delete the functional statements for the IHS Headquarters in their entirety and replace with the following:

Chapter GA

Office of the Director

Section GA-10, Indian Health Service—Organization

The IHS is an Operating Division within the Department of Health and Human Services (HHS) and is under the leadership and direction of a Director who is directly responsible to the Secretary of Health and Human Services. The IHS Headquarters consists of the following major components:

Office of the Director (GA)

Office of Tribal Self-Governance (GAA)

Office of Tribal Programs (GAB)

Office of Urban Indian Health Programs (GAC)

Policy Formulation and Communications Group (GAE)

Office of Clinical and Preventive Services (GAF)

Office of Information Technology (GAG)

Office of Public Health Support (GAH)

Office of Resource Access and Partnerships (GAJ)

Office of Finance and Accounting (GAK)

Office of Management Services (GAL)

Office of Environmental Health and Engineering (GAM)

Section GA-20, Indian Health Service—Functions

Office of the Director (OD) (GA)

Provides overall direction and leadership for the IHS: (1) Establishes goals and objectives for the IHS consistent with the mission of the IHS; (2) provides for the full participation of Indian Tribes in the programs and services provided by the Federal Government; (3) develops health care policy; (4) ensures the delivery of quality comprehensive health services; (5) advocates for the health needs and concerns of American Indians/Alaska Natives (AI/AN); (6) promotes the IHS programs at the local, State, national, and international levels; (7) develops and demonstrates alternative methods and techniques of health services management and delivery with maximum participation by Indian Tribes and Indian organizations; (8) supports the development of individual and Tribal capacities to participate in Indian health programs through means and modalities that they deem appropriate to their needs and circumstances; (9) ensures the responsibilities of the United States are not waived, modified, or diminished, in any way with respect to Indian Tribes and individual Indians, by any grant, contract, compact, or funding agreement awarded by the IHS under the Indian Self-Determination and Education Assistance Act, Public Law (Pub. L.) 93-638, as amended; (10) affords Indian people an opportunity to enter a career in the IHS by applying Indian preference; and (11) ensures full application of the principles of Equal Employment Opportunity laws and the Civil Rights Act in managing the human resources of the IHS.

Office of Tribal Self-Governance (OTSG) (GAA)

(1) Develops and oversees the implementation of Tribal self-governance legislation and authorities in the IHS, under Title V of the Indian Self-Determination and Education Assistance Act, Pub. L. 93-638, as amended; (2) develops and recommends policies, administrative procedures, and guidelines for IHS Tribal self-governance activities, with maximum input from IHS staff and workgroups, Tribes and Tribal organizations, and the Tribal Self-Governance Advisory Committee; (3) advises the IHS Director on Agency compliance with self-governance policies, administrative procedures and guidelines and coordinates activities for resolution of problems with appropriate IHS and HHS staff; (4) provides resource and technical assistance to Tribes and Tribal organizations for the implementation of the Tribal Self-Governance Program (TSGP); (5) participates in the reviewing of proposals from Tribes for self-governance planning and negotiation grants and recommends approvals to the IHS Director; (6) determines eligibility for Tribes and Tribal organizations desiring to participate in the TSGP; (7) oversees the negotiation of self-governance compacts and annual funding agreements with participating Tribal governments; (8) identifies the amount of Area Office and Headquarters managed funds necessary to implement the annual funding agreements and prepares annual budgets for available Tribal shares in conjunction with IHS Area and Headquarters components; (9) coordinates semi-annual reconciliation of funding agreements with IHS Headquarters components, Area Offices, and participating Tribes; (10) serves as the principal IHS office for developing, releasing, and presenting information on behalf of the IHS Director related to the IHS Tribal self-governance activities to Tribes, Tribal organizations, HHS officials, IHS officials, and officials from other Federal agencies, State and local governmental agencies, and other agencies and organizations; (11) arranges national self-governance meetings to promote the participation by all AI/AN Tribes in IHS self-governance activities and program direction; (12) participates in meetings for Self-Governance Tribal delegations visiting IHS Headquarters; and (13) participates in cross-cutting issues and processes including, but not limited to emergency preparedness/security, budget formulation, self-determination issues, Tribal shares computations and resolution of audit findings as may be needed and appropriate.

Office of Tribal Programs (OTP) (GAB)

(1) Assures that Indian Tribes and Tribal organizations are informed regarding pertinent health policy and program management issues; (2) assures that consultation and participation by Indian Tribes and organizations occurs during the development of IHS policy and decision making; (3) provides overall Agency leadership concerning functions and responsibilities associated with self-determination contracting (Title I of the Indian Self-Determination Act); (4) advises the IHS Director and senior management on activities and issues related to self-determination contracting; (5) monitors Agency compliance with self-determination policies, administrative procedures, and guidelines; (6) administers a national grant program designed to assist Tribes and Tribal organizations in beginning and/or expanding self-determination activities; (7) provides Agency leadership in the development of policy; (8) discharges operational responsibilities, with respect to the contract support cost (CSC) program administered by the IHS; (9) provides advice to the IHS Director and senior management on Tribal issues and concerns by acting as liaison with Tribal leaders, national Tribal organizations, inter-Tribal consortiums and Area health boards; (10) provides leadership in the management process of receiving visiting delegations of Tribal leaders and representatives to IHS Headquarters and provides staff assistance to the Office of the Director with respect to Tribal meetings at locations outside of Headquarters; (11) provides overall Agency leadership with respect to policy development and issues concerning the Federal recognition of new Tribes; (12) supports Tribes in managing health programs; (13) coordinates available support from other public and private agencies and organizations; (14) maintains a central database on relevant information to contact Tribal leaders, health programs, etc.; and (15) participates in cross-cutting issues and processes including, but not limited to emergency preparedness/security, budget formulation, self-determination issues, Tribal shares computations and resolution of audit findings as may be needed and appropriate.

Office of Urban Indian Health Programs (OUIHP) (GAC)

(1) Advises the IHS Director on the activities and issues related to the IHS” implementation of Title V, “Indian Health Care Improvement Act”, as amended; (2) develops and recommends policies, administrative procedures, and guidelines for IHS services and activities for Urban Indian health programs and organizations; (3) assures that Urban Indian health programs and organizations are informed of pertinent health policies; (4) ensures that consultation with Urban Indian health programs and organizations occurs during the development of IHS policy; (5) supports Urban Indian health programs and organizations in managing health programs; (6) coordinates support available from other public and private agencies and organizations; (7) advises the IHS Director on Agency compliance with Urban Indian health program policies, administrative procedures, and guidelines; (8) maintains relevant information on Urban Indian health programs and organizations; (9) coordinates meetings and other communications with Urban Indian health program representatives; and (10) participates in cross-cutting issues and processes including, but not limited to emergency preparedness/security, budget formulation, self-determination issues, Tribal shares computations and resolution of audit findings as may be needed and appropriate.

Policy Formulation and Communications Group (PFCG) (GAE)

(1) Coordinates the review and analysis of policy-related issues; (2) provides recommendations for resolving policy conflicts; (3) evaluates policy options and forecasts their costs, benefits, and long-term results; (4) ensures consistency between and within public agency statements, external correspondence, legislative and regulatory positions and internal policy development; (5) disseminates information to IHS consumers, stakeholders, and the general public regarding the activities of the IHS and the health status of AI/AN people and communities; and (6) participates in cross-cutting issues and processes including, but not limited to emergency preparedness/security, budget formulation, self-determination issues, Tribal shares computations and resolution of audit findings as may be needed and appropriate.

Public Affairs Staff (PAS) (GAE1)

(1) Serves as the principal advisor for strategic planning on communications, media relations, and public affairs policy formulation and implementation; (2) ensures IHS policy is consistent with directives from the Assistant Secretary for Public Affairs; (3) provides leadership and advocacy to establish and implement policy for internal and external dissemination of Agency information intended for public release or employee and stakeholder information; (4) serves as the central office for technical guidance and assistance to IHS staff for the development of internal and external communications; (5) coordinates public affairs activities with other public and private sector organizations; (6) coordinates the clearance of IHS public relations activities, campaigns, and communications materials; (7) represents the IHS in discussions regarding policy and public affairs initiatives/implementation; (8) provides technical assistance and advice relative to the effect public affairs initiatives/implementation would have on the IHS; (9) collaborates with the Division of Regulatory Affairs, Records Access and Policy Liaison for review and response to media requests received under the Freedom of Information Act (FOIA) or the Privacy Act, and ensures the security of IHS documents used in such responses that contain sensitive and/or confidential information; and (10) serves as the IHS liaison office for press and public affairs with HHS, IHS Area Offices, media and other external organizations and representatives.

Equal Employment Opportunity and Civil Rights Staff (EEO) (GAE2)

(1) Administers the IHS equal employment opportunity, civil rights, and affirmative action programs, in accordance with applicable laws, regulations, and HHS policies; (2) plans and oversees the implementation of IHS affirmative employment and special emphasis programs; (3) reviews data on IHS employee personnel actions and advises IHS managers of possible discriminatory trends; (4) ensures immediate implementation of required actions on complaints of alleged sexual harassment or discrimination; (5) decides on accepting, for investigation, or dismissing discrimination complaints and evaluates accepted complaints for procedural sufficiency and investigates, adjudicates, and resolves such complaints; and (6) develops EEO education and training programs for IHS managers, supervisors, counselors, and employees.

Executive Secretariat Staff (ESS) (GAE3)

(1) Serves as the Agency's liaison with the Office of the Secretary's Executive Secretariat on IHS program, policy, and special matters; (2) reviews correspondence received by the IHS Director and assigns reply or follow-up action to appropriate IHS Headquarters program offices and IHS Area Offices; (3) ensures the quality (responsiveness, clarity, and substance) of IHS-generated correspondence prepared for the IHS Director's signature by coordinating the review of integrity and policy issues, and performing standard edits and revisions; (4) reviews and coordinates clearance of decision documents for the IHS Director's approval to ensure successful operations and policy-making within the Agency; (5) assists IHS officials as they prepare documents for the HHS Secretary's review, decision, and/or signature; (6) performs special writing assignments for the IHS Director; (7) manages the flow of executive correspondence and related information to Tribes, Tribal organizations, heads of Federal departments and agencies, Congressional Staff offices, and members of Congress; (8) maintains official records for the IHS Director's correspondence and conducts topic research of files, as needed; (9) maintains an automated document tracking and reporting system (ATS) to assist in managing the timely processing of internal and external executive correspondence; (10) conducts training to promote conformance by IHS Headquarters and Area staff to the IHS Executive Correspondence Guidelines and the ATS system; and (11) tracks reports required by Congress.

Congressional and Legislative Affairs Staff (CLAS) (GAE4)

(1) Serves as the principal advisor to the IHS Director on all legislative and Congressional relations matters; (2) advises the IHS Director and other IHS officials on the need for changes in legislation and manages the development of IHS legislative initiatives; (3) serves as the IHS liaison office for Congressional and legislative affairs with Congressional offices, the HHS, the Office of Management and Budget (OMB), the White House, and other Federal agencies; (4) tracks all major legislative proposals in the Congress that would impact Indian health; (5) ensures that the IHS Director and appropriate IHS and HHS officials are briefed on the potential impact of proposed legislation; (6) represents the IHS in discussions regarding policy and legislative initiatives/implementation; (7) provides technical assistance and advice relative to the effect that initiatives/implementation would have on the IHS; (8) establishes collaborations with Headquarters Offices on programmatic and financial issues related to budget formulation; (9) conducts legislative analysis; (10) provides support and serves as liaison to the IHS Director relative to IHS appropriations efforts; (11) directs the development of IHS briefing materials for Congressional hearings, testimony, and bill reports; (12) analyzes legislation for necessary action within the IHS; (13) develops appropriate Legislative Implementation Plans; and (14) coordinates with IHS offices as appropriate to provide leadership, advocacy, and technical support to respond to requests from the public, including Tribal governments, Tribal organizations, and Indian community organizations regarding IHS legislative issues.

Management Policy and Internal Control Staff (MPICS) (GAE5)

(1) Formulates, administers, and supports IHS-wide policies, delegations of authority, and organizations and functions development; (2) provides leadership, on behalf of the IHS Director, to functional area managers at IHS Headquarters in developing, modifying, and overseeing the implementation of IHS policies and procedures; (3) provides analysis, advisory, and assistance services to IHS managers and staff for the development, clearance, and filing of IHS directives and delegations of authority; (4) serves as principal advisor and source for technical assistance for establishment or modification of organizational infrastructures, functions, and Standard Administrative Code configurations; (5) administers the IHS Management Control Program for assuring IHS' compliance with management control requirements in the Federal Managers' Financial Integrity Act; (6) coordinates the development, clearance, and transmittal of IHS responses and follow-up to reports issued by the Office of Inspector General (OIG), the General Accounting Office (GAO), and other Federal internal and external authorities; (7) provides assistance and support to special assigned task groups; (8) conducts special program or management integrity reviews as required; and (9) oversees and coordinates the annual development and submission of the Agency's Federal Activities Inventory Reform Act report to the HHS.

Policy Support Staff (PSS) (GAE6)

(1) Organizes, facilitates, and supports stakeholder task teams to advise the IHS Director on major policy issues; (2) represents the IHS Director in meetings with IHS employees and high-level management officials within the IHS, the HHS, or other Federal agencies, Tribes, and other organizations; (3) provides staff support to the IHS Director, including preparation of presentations and briefings; (4) provides staff support to senior managers, councils and groups; (5) completes special assignments for the IHS Director that may require coordination with other IHS offices or other Federal agencies, Tribes, or Tribal organizations; (6) serves as the IHS liaison for inter-governmental and private sector initiatives that impact health care services and management of the IHS; and (7) participates on inter-governmental task forces.

Office of Clinical and Preventive Services (OCPS) (GAF)

(1) Serves as the primary source of national advocacy, policy development, budget development and allocation for clinical, preventive, and public health programs for the IHS, Area Offices, and Service Units; (2) provides leadership in articulating the clinical, preventive, and public health needs of AI/AN, including consultation and technical support to clinical and public health programs; (3) develops, manages, and administers program functions that include, but are not limited to, alcohol and substance abuse, behavioral health, chronic diseases such as diabetes, asthma, dental services, medical services, domestic violence, pharmacy and pharmaceutical acquisition, community health representatives, emergency medical services, health records, disabilities, Human Immunodeficiency Virus (HIV)/Acquired Immune Deficiency Syndrome (AIDS), maternal health, child health, clinical nursing, professional credentialing, public health nursing, women's health, nutrition and dietetics, and elder care; (4) investigates service delivery and community prevention evidence-based and best practice models for dissemination to community service locations; (5) expands the availability of resources available for AI/AN health by working with public and private entities as well as Federal agencies within and outside the HHS; (6) coordinates development of staffing requirements for new or replacement health care facilities and approves Congressional budget requests for staffing, in collaboration with the Office of Environmental Health and Engineering; (7) provides program oversight and direction for the facilities planning and construction process; (8) develops and coordinates various Health Initiative and Nursing grant programs; (9) provides the national focus for recruitment and retention of health professionals and coordinates with the scholarship and loan repayment programs; (10) works with the Contract Health Services (CHS) program on CHS denial appeals to the IHS Director and in determining CHS medical priorities; (11) manages the clinical (medical, nursing, pharmacy, dental) features of medical tort claims against the IHS; (12) works with the Office of Management Services in managing the clinical aspects of the IHS workman's compensation claims; (13) oversees IHS efforts in a variety of quality assurance and improvement activities, including patient safety; (14) monitors approximately one-half of the IHS' Government Performance and Results Act (GPRA) indicators, overseeing indicator development, data collection, and reporting results; and (15) participates in cross-cutting issues and processes including, but not limited to emergency preparedness/security, budget formulation, self-determination issues, border health initiatives, Tribal delegation meetings, Tribal shares computations and resolution of audit findings as may be needed and appropriate.

Emergency Preparedness and Emergency Medical Services Staff (EPEMSS)

(1) Provides overall direction and leadership for the IHS in regard to establishing IHS goals and objectives consistent with those of the Department of Homeland Security and the HHS, addressing the mission critical elements of emergency preparedness; (2) provides leadership for the development of emergency preparedness plans, policies, and services, including the continuity of operations plans, deployment, public health infrastructure, and emergency medical services; (3) coordinates IHS activities and resources with the activities and available resources of other government and non-government programs for essential services related to homeland security and emergency preparedness; (4) advocates for the emergency preparedness needs and concerns of AI/AN and promotes these program activities at the local, State, national, and international levels; and (5) advocates and coordinates support for Tribal emergency medical services programs, including training and equipment.

Division of Behavioral Health (DBH) (GAFA)

(1) Applies identified profession and program standards, monitors and evaluates community and Area-wide services provided through grants or contracts with AI/AN Tribes, villages, organizations, and direct IHS operations for mental health, social services, and alcohol/substance abuse; (2) coordinates AI/AN community behavioral health programs including alcohol/substance abuse prevention and treatment, mental health, and social work with program directors, division staff, Area staff, and other agencies and institutions; (3) coordinates contracts and grants for behavioral health services and monitors services provided; (4) makes program and policy changes using data analysis, recommendations from operational levels, research results, and coordinates resource allocation from program policies; (5) provides behavioral health program consultation to AI/AN groups and IHS staff; (6) provides leadership in the identification of behavioral change interventions and supports implementation at the community level; (7) coordinates with Federal, State, professional, private, and community organizations on alternate health care resources; (8) works with other Federal agencies and departments to provide additional Federal resources for AI/AN behavioral health programs; (9) provides financial resources and programmatic oversight for complying with the Americans With Disabilities Act through programs such as the Indian Children's Program, and for elders through partnerships with the Administration on Aging and the National Indian Council on Aging; (10) measures and evaluates the quality of behavioral health care services; and (11) prepares information on behavioral health for budgetary hearings and provides program evaluation results to the IHS Director, the Congress, and the Administration.

Division of Clinical and Community Services (DCCS) (GAFB)

(1) Manages, develops, and coordinates a comprehensive clinical, preventive and public health approach to clinical and community programs focusing on maternal and child health, Indian children services including Head Start and Early Head Start Health Programs, medicine, nutrition, HIV/AIDS, pharmacy, laboratory, health records, health education, health promotion, and disease prevention; (2) develops objectives, priorities, and methodologies for the conduct and evaluation of clinical, preventive, and public health for community health-based programs; (3) provides, develops, and implements IHS guidelines, standards, policies, and procedures on clinical, preventive, and public health for community based programs and initiatives; (4) monitors, evaluates, and provides consultation to clinical and community programs; (5) plans jointly with other programs and divisions of the IHS and other agencies on research and coordination of services; (6) coordinates professional staff recruitment and training needs, and scholarship recipient assignments and development to meet Area Office, Service Unit, and Tribal health professional human resource needs; (7) coordinates and monitors contracts and grants with IHS programs and other entities, in collaboration with the Division of Acquisitions Policy and the Division of Grants Operations; (8) develops and disseminates information and materials to IHS facilities and to Tribes and Urban Indian health programs; (9) is responsible for resource management, program data collection, administrative system integrity and accountability by developing program budget materials and responding to Congressional and Departmental inquiries; and (10) manages the Veterans Affairs Pharmaceutical Prime Vendor Contract and IHS National Core Formulary.

Division of Nursing Services (DNS) (GAFC)

(1) Plans, develops, coordinates, evaluates, manages and advocates for the Nursing Services, Women's Health, and Community Health Representative Programs; (2) identifies and establishes standards for these programs; (3) provides leadership, professional guidance, and staff development; (4) plans, develops, coordinates, manages, and evaluates nursing education; (5) coordinates professional staff, including nursing recruitment, scholarship recipients, assignment and development to meet Area Office, Service Unit, and Tribal needs in accordance with IHS policies and procedures; (6) provides guidance in planning, developing, and maintaining management information systems; and (7) prepares budgetary data, analysis and program evaluations and prepares information for program and budget presentations, as well as Congressional hearings.

Division of Oral Health (DOH) (GAFD)

(1) Plans, develops, coordinates, and evaluates dental health programs; (2) establishes staffing, procedural, facility, and dental contract standards; (3) coordinates professional recruitment, assignment, and staff development; (4) represents dental staff and Area Dental Programs in personnel matters, including the monitoring of personnel orders for both appointments and transfers, establishing promotion priority lists, processing special pay and retention bonus contracts, and serving as the HQ representative on adverse action cases; (5) improves effectiveness and efficiency of dental programs; (6) develops resource opportunities and monitors utilization of resources for dental health programs; (7) formulates, allocates and analyzes dental program budget and prepares information for program and budget presentations as well as Congressional inquiries; (8) advocates for oral health needs of the AI/AN population; (9) coordinates health promotion and disease prevention activities for the dental program; (10) monitors oral health status and treatment needs of the AI/AN population; (11) provides clinical and technical support to field staff by way of oral health surveys, provision of clinical trials, consultation on treatment cases, publication of quarterly newsletters and serving as liaison with public and private institutions, as well as major universities to evaluate new and existing strategies for addressing oral health problems in AI/AN; (12) serves as the IHS liaison for oral health issues with other Federal agencies; (13) serves as main source of information transfer to field staff via mediums including, but not limited to, teleconference hookups, electronics (email/listservs), conventional mail and meeting attendance; and (14) maintains and distributes information from the IHS centralized dental database, including workload, program resource directories and exploring the applicability of new health informatics technologies and systems.

Division of Diabetes Treatment and Prevention (DDTP) (GAFE)

(1) Plans, manages, develops, coordinates, and evaluates a comprehensive clinical and community program focusing on type 2 diabetes in AI/AN communities; (2) plans, manages, develops, coordinates, and evaluates the Congressionally-mandated Special Diabetes Program for Indians, a large grant program focused on the prevention and treatment of diabetes; (3) coordinates and monitors contracts and grants with IHS, Tribal, Urban Indian health programs and other entities; (4) develops objectives, priorities and methodologies for the conduct of clinical and community diabetes programs; (5) monitors, evaluates, and provides consultation to clinical and community diabetes grant programs and other new initiatives; (6) provides leadership, professional guidance, and staff development to Area Diabetes Consultants, Model Diabetes Programs and Diabetes Field Coordinators; (7) coordinates diabetes training needs for Area Offices, Service Units, and Tribes; (8) develops and implements IHS standards of care, clinical guidelines, policies, and procedures for diabetes and diabetes-related conditions; (9) coordinates model diabetes program sites; (10) develops and disseminates diabetes-related information and materials to IHS, Tribes and Urban Indian health programs; and (11) is responsible for preparing budgetary data, analysis and program evaluations for budget presentations and Congressional hearings.

Office of Information Technology (OIT) (GAG)

(1) Provides Chief Information Officer (CIO) services and advises the IHS Director on all aspects of information resource management and technology ensuring Agency compliance with related Federal laws, regulations and policies; (2) directs the development, implementation, and maintenance of policies, procedures, standards, and architecture for information resource management, technology activities, and services in the IHS; (3) directs strategic planning and budgeting processes for information resources and technology; (4) leads IHS efforts in the development and implementation of information resource and technology management initiatives in IHS; (5) directs the design, development, acquisition, implementation, and support of information systems and services used in the IHS; (6) directs the activities of the IHS Information Technology Investment Review Board in assessing, implementing, and reviewing the Agency's information systems; (7) contracts for information resource and technology-related software, equipment and support services in collaboration with appropriate acquisition authorities; (8) provides project management support for information resource and technology initiatives; (9) directs the development, implementation and management of the IHS Information Technology Security program to protect the information resources of the IHS; (10) provides information technology services and support to IHS, Tribal, and Urban Indian health programs; (11) ensures accessibility to information technology services; (12) represents the IHS and enters into information technology agreements with Federal, Tribal, State and other organizations; and (13) participates in cross-cutting issues and processes including, but not limited to emergency preparedness/security, budget formulation, self-determination issues, Tribal shares computations, and resolution of audit findings as may be needed and appropriate.

Division of Information Technology (DIT) (GAGA)

(1) Provides Chief Technology Officer services and advises the CIO on all aspects of information technology; (2) develops, implements, and maintains policies, procedures and standards for information resource management and technology products and services in the IHS; (3) develops and maintains information technology strategic planning documents; (4) develops and maintains the IHS enterprise architecture; (5) develops and implements information technology management initiatives in IHS; (6) ensures IHS information technology infrastructure resource consolidation and standardization efforts support IHS healthcare delivery and program administration; (7) represents the IHS to Federal, Tribal, State, and other organizations; and (8) participates in cross-cutting issues and processes that involve information technology.

Division of Information Resources Management (DIRM) (GAGB)

(1) Advises the CIO on all aspects of information resources management; (2) develops information resource policies and procedures; (3) develops the IHS information technology budget and related documents; (4) provides budget analyses and reports to the CIO; (5) develops strategies for presenting the IHS information technology budget to IHS, Tribal, and Urban Indian health programs; (6) provides technical analyses, guidance, and support for IHS capital planning and investment control activities; (7) manages the IHS portfolio management tool; (8) manages the activities of the IHS Information Technology Investment Review Board in assessing, implementing and reviewing the Agency's information systems; (9) represents the IHS to Federal, Tribal, State, and other organizations; and (10) participates in the cross-cutting issues and processes that involve information resources management.

Division of Enterprise Project Management (DEPM) (GAGC)

(1) Advises the CIO on all aspects of information technology project management; (2) develops project management policies and procedures; (3) identifies alternatives among internal and external sources and recommends the best sources to supply information resource and technology products and services to IHS; (4) develops information resource and technology project governance structures, management plans, evaluations, protocols, documentation guides, and related materials to support effective project management; (5) provides project management and related support for IHS developed and acquired information resource and technology products and services; (6) provides customer relationship management support to project stakeholders; (7) provides quality assurance and risk management support; (8) provides contract management support for information technology initiatives; (9) provides contract liaison services to appropriate acquisition authorities; (10) represents the IHS to Federal, Tribal, State, and other organizations; and (11) participates in cross-cutting issues and processes that involve information resources and technology project management.

Division of Information Security (DIS) (GAGD)

(1) Advises the CIO on all aspects of information security; (2) develops, implements and monitors the IHS Information Technology Security program to protect the information resources of the IHS; (3) develops and maintains cyber security policies and guidance for hardware, software, and telecommunications within the IHS; (4) reviews IHS security plans for sensitive systems; (5) evaluates safeguards to protect major information systems and the information technology infrastructure; (6) monitors all IHS systems development and operations for security and privacy compliance; (7) establishes and leads IHS teams to conduct reviews of Agency programs to protect IHS' cyber and personnel security programs; (8) conducts vulnerability assessments of IHS' information technology infrastructure; (9) coordinates activities with internal and external organizations reviewing the IHS' information resources for fraud, waste, and abuse; (10) develops, implements, and evaluates an employee cyber security awareness and training program; (11) establishes and leads the IHS Computer Security Incident Response Capability team; (12) represents the IHS to Federal, Tribal, State, and other organizations; and (13) participates in cross-cutting issues and processes that involve information security.

Office of Public Health Support (OPHS) (GAH)

(1) Advises and supports the IHS Director on policy, budget formulation, and resource allocation regarding the operation and management of IHS, Tribal, and Urban Indian health programs; (2) provides IHS-wide leadership, guidance and support for public health program and activities including strategic planning, evaluation, Government Performance and Results Act (GPRA), research, epidemiology, statistics, and health professions; (3) provides Agency-wide leadership and consultation to IHS, Tribal, and Urban Indian health programs on IHS goals, objectives, policies, standards, and priorities; (4) advocates for the public health needs and concerns of AI/AN and promotes quality health care; (5) manages and provides national leadership and consultation for IHS on assessments of public health medical services, research agendas, special pay, and public health initiatives for the Agency; (6) provides national leadership for the IHS scholarship and loan repayment programs, including physician recruitment; (7) supports and advocates for AI/AN to access State and local public health programs; and (8) participates in cross-cutting issues and processes including, but not limited to emergency preparedness/security, budget formulation, self-determination issues, Tribal shares computations and resolution of audit findings as may be needed and appropriate.

Division of Epidemiology (GAHA)

(1) Prevents and controls chronic and communicable disease through epidemiology and applied public health practice; (2) builds capacity in Tribal communities through a network of Tribal Epidemiology Centers; (3) collaborates with the Centers for Disease Control and Prevention (CDC) staff detailed to the Division of Epidemiology from the CDC; (4) describes causes, patterns, and risk factors for disease and death, and develops public health policy; (5) serves IHS and Tribal communities through disease surveillance, health data management, analysis and reporting, community surveys, emergency response, training in public health practice and epidemiology, consultation to clinicians and technical support for public health activities and assessment of public health system performance; (6) supports epidemiology, disease control, and prevention programs for chronic diseases, including cancer, tobacco control, cardiovascular disease, diabetes, kidney disease, environmental health, maternal health, child health, and others; and (7) supports epidemiology, disease control, and prevention programs for communicable diseases, including tuberculosis, HIV/AIDS, sexually-transmitted diseases, hepatitis, hantavirus, antibiotic-resistant infections, immunizations, bioterrorism preparedness and others.

Chronic Disease Branch (CDB)

Supports epidemiology, disease control, and prevention programs for chronic diseases, including cancer, tobacco control, cardiovascular disease, diabetes, kidney disease, environmental health, maternal health, child health, and others.

Infectious Disease Branch (IDB)

Supports epidemiology, disease control, and prevention programs for communicable diseases, including tuberculosis, HIV/AIDS, sexually-transmitted diseases, hepatitis, hantavirus, antibiotic-resistant infections, immunizations, bioterrorism preparedness, and others.

Division of Program Statistics (DPS) (GAHB)

(1) Plans, develops, directs, and coordinates an analytical statistical reporting program to provide data for measuring the health status and unmet health needs of the AI/AN population; (2) develops and coordinates the collection, processing, and analysis of demographic, patient care, and clinical data for the Agency; (3) maintains, analyzes, makes accessible, and publishes results from national demographic and clinical analyses; and (4) provides statistical and analytical consultation to other divisions and agencies.

Demographics Staff (DS)

(1) Plans, develops and executes a major nation-wide statistical program for the collection, processing, analysis and dissemination of demographic characteristics of the AI/AN population located throughout the United States; (2) coordinates with the National Center for Health Statistics the analysis and reporting of vital event information for the AI/AN population; and (3) provides statistical and analytical consultation to other divisions and agencies.

Patient Care Statistics Staff (PCSS)

(1) Plans, develops and executes a major nation-wide statistical program for the collection, processing, analysis and dissemination of demographic data and special studies with emphasis on health and demographic characteristics of the AI/AN population located throughout the United States; (2) evaluates facility workload trends and participates in the development of methodologies for constructing long-range estimates of inpatient and ambulatory care workloads for use in facility construction and planning; and (3) coordinates with the IHS National Data Repositories, the analysis and reporting of program, patient care and clinical data for the Agency.

Division of Planning, Evaluation and Research (DPER) (GAHC)

(1) Develops and coordinates Agency strategic planning and performance measurement efforts (including GPRA and Program Assessment Rating Tool) with budgeting requirements in consultation with IHS program staff; (2) provides consultation and coordination on the IHS budget formulation activity for planning and data purposes; (3) conducts, facilitates, solicits, coordinates, and evaluates community-oriented practice-based research related to health problems and the delivery of care to AI/AN people and communities with a major focus on improving the health status and systems of care; and (4) provides guidance and support for IHS-wide program evaluation projects.

Division of Health Professions Support (DHPS) (GAHD)

(1) Develops and implements IHS programs to recruit, select, assign, and retain health care professionals and coordinates these activities with the respective disciplines; (2) assesses professional staffing needs and coordinates the development of strategies and systems to satisfy these needs; (3) coordinates the planning and development of IHS strategies and systems to improve the morale and retention of all professionals; (4) coordinates Headquarters activities for physician residency and training programs; (5) coordinates the IHS National Health Service Corps (NHSC) program, including liaison and assignment of NHSC scholarship recipients to IHS; (6) develops priority sites for the loan repayment program; (7) coordinates placement of professionals with loan repayment obligations; (8) serves as IHS coordinator for pre-medical and medical school IHS scholarship recipients; (9) retrieves, establishes, and manages information and data on the IHS work force; and (10) conducts work force data analyses, including trends and projections, identifying work force needs by major personnel systems, categories, and disciplines.

Health Professions Support Branch (HPSB)

(1) Develops the IHS program to recruit, select, assign, and retain health care professionals, in accordance with policies and guidance provided by the Division of Human Resources; (2) assesses IHS professional staffing needs; (3) provides research and analysis functions for Chief Medical Officers, Clinical Directors, and senior clinicians; (4) manages and supports health professions education programs and activities; and (5) develops and administers Indian Health Professions programs authorized by the Indian Health Care Improvement Act (IHCIA), as amended.

Loan Repayment Branch (LRB)

(1) Awards, monitors, places (in IHS, Tribal, and Urban sites), and processes waivers and defaults of participants in the Loan Repayment Program (LRP) as mandated by Section 108 of the IHCIA; (2) coordinates the LRP payment and debt management function with the Program Support Center; and (3) coordinates program administration with the IHS Area Office and Service Unit personnel, particularly placement activities, including Clinical Directors, Chief Medical Officers, and professional recruiters.

Scholarships Branch (SB)

Develops, administers, and evaluates programs in the IHS Scholarship Program authorized under the IHCIA: Section 102 (Health Professions Recruitment Program for Indians), Section 103 (Health Professions Preparatory Scholarship Program for Indians), Section 104 (Indian Health Professions Scholarship Program), Section 105 (IHS Externs Program), Section 120 (Matching Grants to Tribes for Scholarship Programs), Section 217 (Indians Into Psychology Program), and other funded programs authorized under the IHCIA.

Office of Resource Access and Partnerships (ORAP) (GAJ)

(1) Provides Agency-wide leadership and consultation to the IHS direct operations and Tribal programs on IHS goals, objectives, policies, standards and priorities regarding the operations and management of the Business Office Services (BOS) and the Contract Health Services (CHS) programs; (2) develops and implements objectives, priorities, standards, measures and methodologies for the BOS and CHS programs; (3) manages and provides leadership, advocacy, consultation and technical support to Headquarters, IHS Areas and local levels on the full scope of BOS and CHS activities; (4) represents the IHS at meetings and in discussions regarding policy, legislation and other national issues; (5) provides oversight and monitors the BOS and CHS programs regarding compliance requirements, utilization reviews, revenue measures and reports; (6) formulates and analyzes BOS and CHS budgets and prepares information for program budget presentations; (7) collaborates and coordinates with IHS information technology staff and external organizations on new technologies, applications and business practices; (8) develops resource opportunities and coordinates the BOS and CHS activities with other governmental and non-governmental programs, promoting optimum utilization of all available health resources; (9) maintains a database of all inter-agency agreements, intra-agency agreements, memoranda of agreement and memoranda of understanding with external organizations; and (10) participates in cross-cutting issues and processes including, but not limited to emergency preparedness/security, budget formulation, self-determination issues, and resolution of audit findings as may be needed and appropriate.

Division of Business Office Enhancement (DBOE) (GAJA)

(1) Serves as the primary focal point for BOS program operations and policy issues and represents BOS in national forums; (2) provides consultation to Headquarters and Area Offices and is liaison to Tribal organizations, HHS and Office of Management and Budget (OMB) regarding BOS issues; (3) reviews and improves the efficiency of access to resources and provides support for local capacity building through technical assistance, training, consultation and information systems support; (4) develops, disseminates, and maintains BOS policy and procedures manuals; (5) provides national leadership for Medicare, Medicaid, and private insurance reimbursement policy and procedures; (6) serves as the primary liaison with the Center for Medicaid/Medicare Services for rate setting; (7) serves as the focal point regarding Medicare and Medicaid managed care activities, including the review, evaluation, and monitoring of Sections 1115 and 1915(b) Medicaid waiver proposals and other State and Federal health care reform activities; (8) provides programmatic management, review and analysis of information systems for patient registration and billing and collections systems; (9) assures training on operations, various regulatory issues and negotiated managed care provider agreements; and (10) develops third-party budget materials and responds to Tribal, Congressional and HHS inquiries relating to third-party issues.

Division of Contract Care (DCC) (GAJB)

(1) Plans, develops, and coordinates the CHS program and required business practices; (2) develops, disseminates, and maintains CHS policy and procedures manuals; (3) formulates and monitors the CHS budget and distribution methodologies; (4) administers the Catastrophic Health Emergency Fund; (5) administers the CHS Quality Assurance Fund; (6) administers the CHS claims adjudication activity for the IHS Headquarters; (7) monitors the implementation of the IHS payment policy and reports the status to the Director, ORAP; (8) administers the IHS Fiscal Intermediary contract; (9) conducts data analysis and national utilization review and utilization management of CHS services rendered by private sector providers; and (10) provides consultation to Headquarters and Area Offices, and responds to inquiries from the Congress, Tribes, and other Federal agencies.

Office of Finance and Accounting (OFA) (GAK)

(1) Develops and prepares the budget submission for the Indian Health Service and Facilities appropriation to the HHS, OMB and the Presidents budget; (2) participates with HHS officials in budget briefings for the OMB and the Congress; (3) distributes, coordinates, and monitors resource allocations; (4) develops and implements budget, fiscal, and accounting procedures and conducts reviews and analyses to ensure compliance in budget activities in collaboration with Headquarters officials and the Tribes; (5) provides cost advisory and audit resolution services in accordance with applicable statutes and regulations; and (6) participates in cross-cutting issues and processes including, but not limited to emergency preparedness/security, budget formulation, self-determination issues, Tribal shares computations and resolution of audit findings as may be needed and appropriate.

Division of Audit (DA) (GAKA)

(1) Develops and recommends policies and procedures for Chief Financial Officer (CFO) audits; (2) develops and recommends policies and procedures for Tribes and Tribal organizations audit resolution within IHS; (3) provides advice, technical consultation, and training to IHS Headquarters, Area Offices, Tribal, and Urban Indian Health organizations for Title I, Title V, and Agency CFO audits; (4) provides audit resolution services in accordance with applicable statutes and regulations; (5) advises the Director, OFA, of proposed legislation, regulations, directives, and timelines that will affect audits within IHS, as well as how current legislation affects handling of audit-related issues; (6) manages the IHS Audit Information Management System (AIMS) and conducts analysis of data for reports and/or responses to internal and external inquiries; (7) serves as the IHS contact point to the HHS for the AIMS Report and the Accountability Report; (8) coordinates the collection of disallowed costs cited in Tribes and Tribal organizations audits; (9) coordinates the correction of non-monetary findings coded by the HHS in Tribes and Tribal organizations audits; (10) coordinates receipt of audits from all organizations funded by IHS; (11) formulates Corrective Action Plans for CFO audit deficiencies; (12) coordinates resolutions of deficiencies with IHS Headquarters senior managers and Area Directors; and (13) reports status of corrective actions to the IHS Headquarters senior managers and to the HHS.

Division of Budget Formulation (DBF) (GAKB)

(1) Interprets policies, guidelines, manual issuances, OMB circulars, and instructions from Congress, OMB, HHS, and IHS on formulation of preliminary, Departmental, and Congressional budget requests for the IHS and Indian Health Facilities appropriation requests; (2) directs the collection, review, and analysis of program and financial data from Headquarters, Area Offices, Tribes, Tribal and Urban Indian Health organizations used in determining resource requirements; (3) coordinates the preparation of the IHS preliminary, Departmental and Congressional budget justifications for the Indian Health Service and Facilities appropriations; (4) prepares witness information for hearings before the House and Senate Appropriations Committees, House Resource Committee on Interior and Insular Affairs, the Senate Committee on Indian Affairs, and other Congressional committees as requested; (5) coordinates development of responses and inserts to be used for the record by and for Congressional appropriations hearings; (6) coordinates development of briefing materials in response to Congressional concerns and hearings; and (7) develops, implements, and maintains IHS policies and procedures for Congressional budget liaison activities.

Division of Budget Execution (DBE) (GAKC)

(1) Interprets policies, guidelines, and directives from Congress, OMB, Government Accounting Office (GAO), Treasury, and the HHS on Tribal shares and execution; (2) recommends and coordinates IHS Area Budget Execution; (3) prepares apportionment requests for the Indian Health Service and Indian Health Facilities appropriations; (4) consults with the Headquarters officials on Area funding allocations; (5) maintains fund control; (6) establishes and maintains IHS Headquarters memorandum-accounts-of-obligations; (7) prepares reprogramming requests; (8) coordinates and maintains relevant information on IHS Headquarters and Area Tribal shares; (9) consults with Headquarters and Area components on Tribal share allocations; (10) advises the Director, OFA on Agency compliance with self-determination policies, administrative procedures and guidelines; (11) coordinates activities for resolution of problems with appropriate IHS Headquarters and Area staff; (12) participates in the review and reconciliation of Tribal funding agreements and certifies IHS Headquarters funding of proposals from Tribal governments in conjunction with the Office of Tribal Self-Governance and the Office of Tribal Programs; (13) manages the financial review of Tribal agreements to identify sources of funds necessary to implement the Tribal funding agreements; and (14) participates in meetings with Tribal delegations as requested.

Division of Systems Review and Procedures (DSRP) (GAKD)

(1) Reviews, interprets and comments on policies, guidelines, and manual issuances of Congress, Treasury, GAO, the HHS and IHS on systems of fiscal management, including the Unified Financial Management System (UFMS), Common Accounting Numbers/Budget and Accounting Classification Structure Crosswalk and the CORE Accounting System (CORE); (2) plans, directs, and implements fiscal policies and procedures on Headquarters and field accounting; (3) coordinates the cost accounting system for IHS; (4) reviews and analyzes accounting and financial management systems and related system interfaces; (5) supports the conversion of financial information from CORE to UFMS; (6) provides and assists Area accounting staff with accounting system transactions, correcting errors and system related emergencies; (7) serves as the Agency liaison between Agency components concerning the interface of administrative and other feeder applications with Oracle/UFMS; (8) serves as the liaison between IHS, the Program Support Center (PSC) and the HHS for reporting of prompt payment, debt management, and cash reconciliation processes; (9) coordinates, regulates, and manages the issuance of financial codes for IHS; and (10) coordinates year-end “roll-over” activities with PSC and IHS Headquarters and Area staffs.

Division of Financial Operations (DFO) (GAKE)

(1) Manages the IHS travel program, provides training, interprets travel regulations, conducts reviews and updates travel policy and procedures; (2) processes Headquarters travel orders and vouchers, including permanent change of station and international travel; (3) coordinates Area Directors' travel orders and vouchers; (4) coordinates the conference management functions for the Agency; (5) processes all Memoranda of Understanding (or Agreement) to verify accounting data and ensure proper payment/collection; (6) prepares reports and analyzes third-party collection data for management; (7) analyzes various operating costs and provides PSC with Area breakouts; (8) monitors PSC disbursements to assure proper accounting; (9) participates in the development of Medicare cost reports with Headquarters, Area Offices, Service Units and contractors; (10) provides contractor with data from various data systems; (11) provides support and technical assistance to Headquarters operational components in the development of Headquarters operations budgets; (12) provides fund certification and maintains commitment registers for Headquarters components; (13) performs fund reconciliations and assists in coordination of discrepancies with financial officials; (14) maintains Headquarters staffing status reports; and (15) serves as coordinator and conducts training for the Headquarters Administrative Resource and Management System.

Office of Management Services (OMS) (GAL)

(1) Provides IHS-wide leadership, guidance and support for the management of human resources, grants, acquisition, records management, personal property and supply, and the regulations program; (2) develops and oversees the implementation of policies, procedures and delegations of authority for IHS grants management activities, including grants added to self-governance compacts; (3) ensures that Agency policies and practices for the administrative functions identified above are consistent with applicable regulations, directives and guidance from higher echelons in the HHS and other Federal oversight agencies; (4) advises the IHS Director, in conjunction with the Office of the General Counsel (OGC), on the resolution of statutory and regulatory issues related to the IHS and coordinates resolution of IHS legal issues with the OGC, IHS staff, and other Federal agencies; (5) assures that IHS appeal systems meet legal standards, in conjunction with the Office of the General Counsel; (6) provides leadership and direction of activities for continuous improvement of management accountability and administrative systems for effective and efficient program support services IHS-wide; (7) ensures the accountability and integrity of grants and acquisition management, records management, personal property utilization and disposition of IHS resources; (8) assures that the IHS management services, policies, procedures, and practices support IHS Indian Self-Determination Act policies; (9) assists in the assurance of Indian access to State, local, and private health programs; (10) provides leadership and advocacy of the IHS mission and goals with the HHS, Administration, Congress, and other external authorities; and (11) participates in cross-cutting issues and processes including, but not limited to emergency preparedness/security, budget formulation, self-determination issues, Tribal shares computations and resolution of audit findings as may be needed and appropriate.

Program Integrity and Ethics Staff (PIES) (GAL1)

(1) Directs the fact-finding and resolution of allegations of impropriety such as mismanagement of resources, fraud, waste, and abuse violations of the Standards of Ethical Conduct, Hatch Act and political activity and other forms of waste; (2) advises the IHS Director and IHS management of appropriate corrective and remedial actions to correct improprieties; (3) directs and provides leadership in the formulation of plans, guidance and evaluation of the IHS Personnel Security and Drug Testing Programs; (4) administers the IHS-wide management of the Agency hotline reports of allegations; (5) serves as the Agency coordinator for the HHS Office of the Inspector General (OIG), Office of Investigations; (6) manages and directs the IHS “Ethics Program”, including the implementation of all requirements, providing advice to the IHS Director and serving as the Agency liaison with all outside investigative organizations such as the Office of Special Counsel, the General Accounting Office and the OIG; and (7) develops and implements IHS directives and training for Standards of Ethical Conduct, Hatch Act and political activity, allegations and investigations of administrative fraud, waste and abuse, drug testing, and personnel security.

Division of Commissioned Personnel Support (DCPS) (GALA)

(1) Acts as the liaison between IHS and the Program Support Center, Division of Commissioned Personnel, HHS; (2) advises the IHS Director, supervisors, administrators, managers, officers and dependents regarding commissioned personnel benefits, policies, procedures, regulations, as the IHS primary point of contact for commissioned personnel management; (3) develops policies, procedures, and recommendations to the Division of Commissioned Personnel, HHS; (4) provides direct support to the IHS Director and/or the Agency representative to the Office of the Surgeon General; and (5) produces resource materials and conducts training sessions on commissioned personnel issues for officers, supervisors, and commissioned personnel specialists in IHS Area Offices.

Division of Administrative Services (DAS) (GALB)

(1) Plans, develops and directs program support and general services programs; (2) develops and disseminates policy and procedural guidelines for uniform administrative services and practices; (3) provides guidance and support in the development, planning, and implementation of administrative functions; (4) serves as liaison with the HHS and the General Services Administration (GSA) on logistics issues affecting the IHS; (5) monitors, evaluates, and reports on administrative programs and services; (6) provides advice and technical assistance on design, layout, inventories, and print order tracking for IHS publications; and (7) manages a variety of special projects.

Office Services Branch (OSB)

(1) Administers physical security, supply, and space management services for Headquarters; (2) develops and disseminates policy and procedural guidelines for uniform office service programs; (3) provides leadership and coordination in the planning, development, operation, and evaluation of special office support programs in small purchase acquisitions, facilities management, office relocations, lease acquisition, GSA supplies, equipment, furniture, telecommunications, transportation, mail management, forms management, photocopying, and printing; (4) manages the Headquarters facilities program, physical security, motor vehicles, personal property, special projects and inter-agency activities; (5) develops and recommends policies and procedures for the protection and disposition of IHS records and oversees the evaluation of records management activities in the IHS; (6) provides leadership for special projects and inter-agency activities; (7) develops and recommends policies and procedures for the protection and disposition of IHS records; (8) oversees the evaluation of records management activities in the IHS; (9) provides leadership and guidance for the Agency Records Management Program; and (10) develops and implements a management control system for evaluation of records management functions Agency-wide.

Property and Supply Management Branch (PSMB)

(1) Plans, develops, and administers the IHS policies on personal property management in conformance with Federal personal property management laws, regulations, policies, procedures, practices, and standards; (2) interprets regulations and provides advice on execution and coordination of personal property management policies and programs; (3) administers management systems and methods for planning, utilizing, and reporting on administrative personal property management programs, including the IHS personal property accountability and controls systems; (4) provides guidance and serves as principal administrative authority on Federal personal property management laws, regulations, policies, procedures, practices, and standards, in conjunction with the Office of the General Counsel; (5) conducts surveys and studies involving evaluation and analysis of the personal property management activities Agency-wide; (6) maintains liaison with the HHS and the GSA on personal property management issues and programs affecting the IHS; (7) prepares reports on IHS personal property; and (8) develops statements for annual budget formulation and presentation.

Division of Acquisitions Policy (DAP) (GALC)

(1) Develops, recommends, and oversees the implementation of policies, procedures and delegations of authority for the acquisition management activities in the IHS, consistent with applicable regulations, directives, and guidance from higher echelons in the HHS and Federal oversight agencies; (2) advises the Director, Office of Management Services, of proposed legislation, regulations, and directives that affect contracts in the IHS; (3) provides leadership for compliance reviews of all IHS procurement operations; (4) oversees completion of necessary corrective actions; (5) manages for the Agency, the HHS acquisition training and certification program and the project officer training program; (6) supports and maintains the IHS Contract Information System and controls entry of data into the HHS Contract Information System; (7) serves as the IHS contact point for contract protests and the HHS contact for contract-related issues; (8) reviews and makes recommendations for approval/disapproval of contract-related documents such as: Pre- and post-award documents, unauthorized commitments, procurement planning documents, Justification for Other Than Full and Open Competition documents, waivers, deviations, and determinations and findings that require action by the Agency Principal Official Responsible for Acquisition, the Agency Head of Contracting, or the Office of the Secretary; (9) processes unsolicited proposals for the IHS; (10) coordinates the IHS Small, Disadvantaged, and Women-Owned Business programs; (11) oversees compliance with the Buy Indian Act; and (12) provides advice to Agency officials negotiating inter- and intra-agency agreements, in accordance with the IHS agreements program.

Division of Grants Operations (DGO) (GALD)

(1) Directs grants management and operations for the IHS; (2) awards and administers grants and cooperative agreements for IHS financial assistance programs; (3) provides leadership for the resolution of audit findings for grant programs; (4) manages for the Agency, the HHS grants training and certification program; (5) continuously assesses grants operations; (6) oversees completion of necessary corrective action plans; (7) reviews and makes recommendations for improvements in grantee and potential grantee management systems; (8) serves as the IHS liaison with the HHS and the public for grants and other financial assistance programs within the IHS; (9) maintains the Catalog of Federal Domestic Assistance for IHS financial assistance programs; (10) conducts grants-related training for IHS staff, grantees, and potential grantees; (11) coordinates payment to grantees, including scholarship recipients; and (12) establishes and maintains the IHS automated Grants Information System and controls data entry into the HHS automated Grants Information System.

Division of Regulatory Affairs, Records Access and Policy Liaison (GALE)

(1) Manages the IHS’ overall regulations program and responsibilities, including determining the need for and developing plans for changes in regulations, developing or assuring the development of needed regulations, and maintaining the various regulatory planning processes; (2) serves as IHS liaison with the Office of the Federal Register on matters relating to the submission and clearance of documents for publication in the Federal Register; (3) assures proper Agency clearance and processing of Federal Register documents; (4) informs management and program officials of regulatory activities of other Federal agencies; (5) manages the IHS review of non-IHS regulatory documents that impact the delivery of health services to Indians; (6) advises the IHS Director and serves as liaison with the Office of the General Counsel (OGC) on such matters as litigation, regulations, related policy issues, and administrative support issues; (7) determines the need for and obtains legal clearance of IHS directives and other issuances; (8) coordinates legal issues with the OGC, IHS, HHS components, and other Federal agencies, including the identification and formulation of legal questions and advising on the implementation of OGC opinions; (9) assures that IHS’ appeals processes meet legal standards; (10) advises on and participates in Indian Self-Determination and Education Assistance Act appeals and hearings; (11) provides guidance and assistance on State and Federal health reform efforts, including access and civil rights aspects and State Medicaid waiver applications; (12) advises on the administration of the contract health services (CHS) appeals system and is a participant in the IHS Director's CHS appeal decisions; (13) manages the retrieval and transmittal of information in response to requests received under the FOIA or the Privacy Act, in collaboration with the Public Affairs Staff; (14) ensures the security of sensitive and/or confidential information when responding to FOIA or Privacy Act issues; and (15) advises the IHS Director regarding requests for IHS employees to serve as expert witnesses when IHS is not a party to the suit.

Regulations and Records Access Branch (RRAB)

(1) Manages the Agency's regulation program and responsibilities; (2) serves as liaison with the Office of the Federal Register; (3) advises on the need for or changes in current regulations; (4) develops or assures the development of IHS regulations; (5) keeps IHS officials informed on relevant regulatory activities of other agencies of the Government; (6) coordinates regulations activities with agencies within the HHS that impact on the delivery of health services to Indians; (7) maintains and updates various regulatory agendas; (8) assures that all IHS materials for publication in the Federal Register are properly cleared, processed, and in proper format; (9) manages the retrieval, review, and appropriate transmittal of information in response to FOIA requests, including ensuring the appropriate security of such documents; (10) manages, administers, implements and monitors the Agency's Paperwork Reduction Act (PRA) and OMB information collection/activities; (11) provides guidance and technical assistance to IHS regarding information collection requirements and procedures for obtaining OMB approvals and extensions for IHS information collections; and (12) coordinates the implementation and the application of Privacy Act requirements, including but not limited to Health Insurance Portability and Accountability Act implementation and compliance.

Policy Liaison Branch (PLB)

(1) Coordinates the resolution and development of legal advice to the IHS Director on IHS legal issues with the OGC, IHS senior staff, and other Federal agencies; (2) provides liaison with the OGC in such matters as litigation, regulations, legislation, policy review, civil rights, and administrative appeals; (3) provides advice on the development and implementation of non-personnel appeals processes to assure they meet legal standards; (4) maintains and distributes the Compendium of Legal Opinions; (5) reviews IHS directives and other issuances for needed legal clearances; (6) advises on the impact on IHS and the Indian community of State and Federal health reforms; and (7) provides policy review and advice on the need for or application of legal opinions.

Division of Human Resources (DHR) (GALG)

(1) Advises the IHS Director on personnel management issues, programs and policies for civil service and commissioned corps personnel programs; (2) assures implementation of the Indian preference policy in all personnel practices; (3) develops personnel management policies, programs, and reports in accordance with applicable laws, regulations, and policies; (4) provides personnel management and services throughout IHS, to include, but not limited to, manpower planning and utilization, staffing, recruitment, compensation, classification, human resource development, pay administration, labor, and employee relations; (5) provides advice, consultation, and assistance to IHS management and Tribal officials on Tribal health program personnel policy issues; (6) provides technical support, guidance, and assistance on all personnel programs to IHS Headquarters operations and other organizations as necessary; and (7) represents IHS in all personnel management matters.

Human Resources Advisory Branch (HRAB)

(1) Plans, conducts, and evaluates personnel functional programs; (2) develops IHS personnel policies, programs, and reports; (3) provides personnel program and policy advice and assistance throughout IHS; (4) provides advice and assistance to IHS management and Tribal officials on Tribal health program personnel policies; and (5) develops and implements Indian preference policies and procedures.

Human Resources Operations Branch (HROB)

(1) Plans and implements personnel servicing responsibilities for IHS programs covered by the Headquarters appointing authority, including staffing, recruitment, classification, pay administration, and employee relations; (2) provides staff support for the establishment and recruitment of Senior Executive Service positions, including performance management, compensation and award nominations; (3) processes personnel actions and appoints all civil service employees; and (4) provides advice and training on timekeeping and pay administration.

Office of Environmental Health and Engineering (OEHE) (GAM)

(1) Advises and supports the IHS Director on policy, budget formulation, and resource allocation regarding environmental health and engineering activities of IHS and Tribal facilities programs; (2) provides Agency-wide leadership and consultation to IHS, Tribal, and Urban Indian health programs on IHS goals, objectives, policies, standards, and priorities; (3) represents the IHS within the HHS and external organizations for purposes of liaison, professional collaboration, cooperative ventures, and advocacy; (4) serves as the primary source of technical advice for the IHS Director, Headquarters, Area Offices, Tribal, and Urban Indian health programs on the full scope of health care facilities construction and operations, sanitation facilities construction and management, environmental health services, environmental engineering, clinical engineering, and realty services management; (5) develops and recommends policies, administrative procedures and guidelines for Pub. L. 93-638 construction activities; (6) develops objectives, priorities, standards, and methodologies to conduct and evaluate environmental health, environmental engineering, and facilities engineering and management activities; (7) coordinates the formulation of the IHS Facilities appropriation budget request and responds to all inquiries about the budget request and programs funded by the IHS Facilities appropriation; (8) maintains needs-based and workload-based methodologies for equitable resource distribution for all funds appropriated under the IHS Facilities appropriation; (9) provides leadership, consultation, and staff development to assure functional, safe, and well-maintained health care facilities, a comprehensive environmental health program, and the availability of water, sewer, and solid waste facilities for Indian homes and communities; (10) coordinates the IHS OEHE responsibilities in responding to disasters and other emergency situations, in collaboration with the Office of Clinical and Preventive Services; and (11) participates in cross-cutting issues and processes including, but not limited to emergency preparedness/security, budget formulation, self-determination issues, Tribal shares computations and resolution of audit findings as may be needed and appropriate.

Division of Sanitation Facilities Construction (DSFC) (GAMA)

(1) Develops, implements, and manages the environmental engineering programs, including the Sanitation Facilities Construction (SFC) program, and compliance activities associated with environmental protection and historic preservation legislation; (2) provides Agency-wide management assistance and special support/consultation to address special environmental public health problems for environmental engineering/construction activities, and for compliance with environmental legislation; (3) works closely with other Federal agencies to resolve environmental issues and maximize benefits to Tribes by coordinating program efforts; (4) develops, implements, and evaluates Agency program activities, objectives, policies, plans, guidelines, and standardized data systems for SFC activities; (5) consults with Tribal groups/organizations in the development and implementation of SFC policies and initiatives, and in the identification of sanitation needs; (6) maintains a national inventory of current Tribal sanitation facilities needs, and past and present projects to address those needs; and (7) allocates financial resources Agency-wide based on need and workload using the national data inventories, in collaboration with the OFA.

Division of Facilities Operations (DFO) (GAMB)

(1) Develops, implements, and manages the programs affecting health care facilities operations, including the routine maintenance and improvement, real property asset management, quarters, and clinical engineering programs; (2) develops, implements, monitors and evaluates Agency program activities, objectives, policies, plans, guidelines, and standardized data systems for health care facilities operations; (3) serves as the principal resource for coordination of facilities operations and provides consultation to IHS and the Tribes on health care facilities operations; (4) maintains real property asset and quarters management systems; (5) maintains clinical engineering management systems; (6) formulates financial resources allocation methodologies Agency-wide based on need and workload data; (7) maintains Agency-wide data on Federal and Tribal facilities for program budget justification; (8) develops and evaluates technical standards and guidelines for health care facilities operations; and (9) monitors construction activities and the improvement, alteration, and repair of health care facilities.

Division of Facilities Planning and Construction (DFPC) (GAMC)

(1) Develops, implements, and manages the IHS Health Care Facilities Planning and Construction program, including the facilities planning process, facilities design process, facilities acquisition, and construction project management; (2) develops, implements, monitors, and evaluates Agency program activities, objectives, policies, plans, guidelines, and standardized data systems for health care facilities planning and construction; (3) develops and maintains construction priority systems, and with the Division of Engineering Services, develops project budget documents for the health care facilities construction program; (4) serves as the principal resource in providing leadership, guidance, and coordination of health care facilities engineering activities for the IHS Headquarters, Area Offices, Tribal and Urban Indian health programs; (5) evaluates justifications for major improvement and alteration projects and other large scale construction activities; and (6) develops and evaluates technical standards and guidelines for health care facilities construction.

Division of Environmental Health Services (DEHS) (GAMD)

(1) Develops, implements, and manages the IHS Environmental Health Services programs, including the Injury Prevention and Institutional Environmental Health programs; (2) serves as the primary source of technical and policy advice for IHS Headquarters and Area Offices on the full scope of environmental health issues and activities; (3) maintains relationships with other Federal agencies and Tribes to maximize responses to environmental health issues and maximize benefits to Tribes by coordinating program efforts; (4) provides leadership in identifying and articulating environmental health needs of AI/AN populations and support efforts to build Tribal capacity; (5) provides personnel support services and advocates for environmental health providers; (6) maintains, analyzes, makes accessible, and publishes results from national databases; (7) manages resource allocation activities in accordance with established criteria based on workload; (8) develops and evaluates standards and guidelines for environmental health programs and activities; and (9) performs functions related to environmental health programs such as injury prevention, emergency response, water quality, food sanitation, occupational health and safety, solid and hazardous waste management, environmental health issues in health care and non-health care institutions, and vector control.

Division of Engineering Services (Dallas/Seattle) (DES) (GAME)

(1) Administers health care facilities engineering and construction projects for specified Area Offices and administers the engineering and construction of certain projects for other Federal agencies through inter-agency agreements; (2) carries out management activities relating to IHS-owned and utilized health care facilities, including construction, contracting, realty, and leasing services; (3) serves as the source of engineering and contracting expertise for assigned programs/projects and other technical programmatic areas affecting the planning, design, alteration, leasing, and construction of IHS health care and sanitation facilities for Indian homes and communities; and (4) assists in the development of Area Office annual work plans, studies, investigations, surveys, audits, facilities planning, and technical standards development, for IHS-owned and Tribal health care facilities.

Section GA-30, Indian Health Service—Order of Succession

During my absence or disability of the IHS Director or in the event of a vacancy in that office, the following IHS Headquarters officials, in the order listed below, shall act as the IHS Director. In the event of a planned extended period of absence, the IHS Director may specify a different order of succession. The order of succession will be:

(1) Deputy Director.

(2) Deputy Director for Indian Health Policy.

(3) Deputy Director for Management Operations.

(4) Chief Medical Officer.

Section GA-40, Indian Health Service—Delegations of Authority

All delegations of authority and re-delegations of authority made to IHS officials that were in effect immediately prior to this reorganization, and that are consistent with this reorganization, shall continue in effect pending further re-delegation.

Chapter GF

IHS Area Offices

Section GF-00, Indian Health Service Area Offices—Mission

The IHS Area Offices carry out the mission of the IHS by providing a system of health care unique to the Area population.

Section GF-10, Indian Health Service Area Offices—Organization

An Area Office is a bureau-level organization under the direction of an Area Director, who reports to the IHS Director.

The following are the Area Offices of the IHS:

• Aberdeen Area Office (GFA)

• Alaska Area Office (GFB)

• Albuquerque Area Office (GFC)

• Bemidji Area Office (GFE)

• Billings Area Office (GFF)

• California Area Office (GFG)

• Nashville Area Office (GFH)

• Navajo Area Office (GFJ)

• Oklahoma City Area Office (GFK)

• Phoenix Area Office (GFL)

• Portland Area Office (GFM)

• Tucson Area Office (GFN).

Section GF-20, Indian Health Service Area Offices—Functions

The specific functions of the IHS Area Offices vary, however, each Area Office includes functions organized to support major categories of administrative management and clinical activities. Examples include:

Administration and Management—Financial management, administrative and office services, contract/grant administration, procurement, personnel management, facilities management, management information systems, contract health services, and equal employment opportunity;

Program Planning, Analysis and Evaluation Programs—Program planning, statistical analysis, legislative initiatives, research and evaluation, health records, management information systems, and patient registration/third party collection;

Tribal Activity Programs—Provision of Pub. L. 93-638, Indian Self-Determination and Education Assistance Act, health services delivery, community health representative services, Urban Indian health, alcoholism and substance abuse, and health education;

Health Programs—Primary care, clinical activities, mental health, nursing services, health promotion, disease prevention, professional recruitment, community services, and the Joint Commission on Accreditation of Healthcare Organizations;

Environmental Health/Sanitation Facilities Programs—Environmental health and engineering/sanitation facilities construction programs; and

Information Resources Management Programs—Automated data processing (ADP), ADP planning and operations, management information systems, office automation systems, and voice/data telecommunications management.

Section GF-30, Indian Health Service Area Offices—Order of Succession

The order of succession for Area Directors at the IHS Area Offices are determined by each Area Director and continue in effect until changed.

Section GF-40, Indian Health Service Area Offices—Delegations of Authority

All delegations and re-delegations of authority made to officials in the IHS Area Offices that were in effect immediately prior to this reorganization, and that are consistent with this reorganization, shall continue in effect pending further re-delegation.

This reorganization shall be effective on August 23, 2004.

Dated: April 28, 2005.
Phyllis Eddy,
Acting Deputy Director, Indian Health Service.

[FR Doc. 05-9012 Filed 5-5-05; 8:45 am]

BILLING CODE 4165-16-P